ENVIRONMENTAL PROTECTION AGENCY

40 CFR Part 60

[EPA-R06-OAR-2010-0580; FRL-12826-02-R6]

New Source Performance Standards; Delegation of Authority to Oklahoma

AGENCY: Environmental Protection Agency (EPA).

ACTION: Final rule; notification of delegation.

SUMMARY: The Environmental Protection Agency (EPA) is approving updates to the Code of Federal Regulations that reflect Oklahoma's current New Source Performance Standards (NSPS) delegation status and the mailing address for the Oklahoma Department of Environmental Quality (ODEQ). The ODEQ submitted updated regulations for receiving delegation of EPA authority for implementation and enforcement of certain NSPS. The updated State regulations incorporate by reference certain NSPS promulgated by EPA, as they existed through June 30, 2023. The delegation of authority for implementation and enforcement applies to sources subject to the delegated NSPS, including those located in certain areas of Indian country as discussed herein.

DATES: This rule is effective on January 20, 2026.

ADDRESSES: The EPA has established a docket for this action under Docket ID No. EPA-R06-OAR-2010-0580. All documents in the docket are listed on the https://www.regulations.gov website. Although listed in the index, some information is not publicly available, e.g., Confidential Business Information or other information whose disclosure is restricted by statute. Certain other material, such as copyrighted material, is not placed on the internet. Publicly available docket materials are available electronically through https://www.regulations.gov.

FOR FURTHER INFORMATION CONTACT: Clovis Steib, EPA Region 6 Office, Infrastructure and Ozone Section, Air and Radiation Division (ARSI), 214-665-7566, steib.clovis@epa.gov.

SUPPLEMENTARY INFORMATION: Throughout this document whenever “we,” “us,” or “our” is used, we mean the EPA.

I. Background

The background for this action is discussed in detail in our July 7, 2025, proposal (90 FR 29826). In that document we proposed to approve updates to the delegation of NSPS to ODEQ. The delegation provides ODEQ with the primary responsibility to implement and enforce the delegated NSPS standards, as they existed through June 30, 2023.

II. Response to Comments

EPA received two anonymous comments. One comment was deemed to be non-relevant to this action. The other comment requests EPA encourage ODEQ to consider carbon dioxide emissions as part of its broader regulatory and permitting context and in its implementation of NSPS standards. We thank the commenter for the comment but find the request to be beyond the scope of the current NSPS delegation. This action aims to approve ODEQ's requested updates to its current NSPS delegation, it does not speak to Oklahoma's broader regulatory scheme or alter the requirements of the delegated NSPS standards. As such, we are finalizing the NSPS delegations to ODEQ as proposed.

III. Impacts on Areas of Indian Country

Following the U.S. Supreme Court decision in McGirt v. Oklahoma, 140 S. Ct. 2452 (2020), the Governor of the State of Oklahoma requested approval under Section 10211(a) of the Safe, Accountable, Flexible, Efficient Transportation Equity Act of 2005: A Legacy for Users, Public Law 109-59, 119 Stat. 1144, 1937 (August 10, 2005) (“SAFETEA”), to administer in certain areas of Indian country (as defined at 18 U.S.C. 1151) the State's environmental regulatory programs that were previously approved by the EPA outside of Indian country. The State's request excluded certain areas of Indian country further described below.

The EPA has approved Oklahoma's SAFETEA request to administer all of the State's EPA-approved environmental regulatory programs in the requested areas of Indian country. As requested by Oklahoma, the EPA's approval under SAFETEA does not include Indian country lands, including rights-of-way running through the same, that: (1) qualify as Indian allotments, the Indian titles to which have not been extinguished, under 18 U.S.C. 1151(c); (2) are held in trust by the United States on behalf of an individual Indian or Tribe; or (3) are owned in fee by a Tribe, if the Tribe (a) acquired that fee title to such land, or an area that included such land, in accordance with a treaty with the United States to which such Tribe was a party, and (b) never allotted the land to a member or citizen of the Tribe (collectively “excluded Indian country lands”).

The EPA's approval under SAFETEA expressly provided that to the extent the EPA's prior approvals of Oklahoma's environmental programs excluded Indian country, any such exclusions are superseded for the geographic areas of Indian country covered by the EPA's approval of Oklahoma's SAFETEA request. The approval also provided that future revisions or amendments to Oklahoma's approved environmental regulatory programs would extend to the covered areas of Indian country (without any further need for additional requests under SAFETEA).

As explained above, the EPA is finalizing an update to the Oklahoma NSPS delegation which will apply statewide in Oklahoma. Consistent with the EPA's SAFETEA approval, this NSPS delegation will apply to areas of Indian country pursuant to the SAFETEA approval, including to all Indian country in the State of Oklahoma other than the excluded Indian country lands as described above.

IV. Final Action

EPA is taking final action to approve updates to the delegation of certain NSPS to ODEQ, and amending 40 CFR part 60 to (1) include a table of the specific NSPS provisions delegated to the ODEQ and (2) update the mailing address for the ODEQ for submittal of documents required under the delegated NSPS provisions, so as to provide the ODEQ with the authority to implement and enforce certain newly incorporated NSPS promulgated by the EPA and amendments to existing standards currently delegated, as they existed though June 30, 2023.

V. Statutory and Executive Order Reviews

Under the CAA, EPA previously delegated to the ODEQ the authority to implement and enforce certain NSPS for sources located in Oklahoma, as provided for under 42 U.S.C. 7411(c)(1); see also 40 CFR 60.4(b). Pursuant to the terms and conditions of that delegation, this action informs the public that EPA has found the ODEQ's October 28, 2024, request ¹ to update the delegation status for NSPS standards meets Federal requirements and does not impose additional requirements beyond those imposed by State law. Through this action, EPA is proposing to add a table to 40 CFR part 60 listing the specific NSPS currently delegated to the ODEQ and update the ODEQ's address for submittal of documents required under the delegated NSPS provisions.

¹ The ODEQ previously submitted requests to EPA for updates to the Oklahoma NSPS delegation, by letters dated August 23, 2012, March 17, 2015, November 2, 2016, June 6, 2018 (revised with a subsequent June 29, 2018 letter), December 23, 2019, March 23, 2021 (revised with a subsequent September 14, 2021 email), December 2, 2021 (revised with a subsequent October 17, 2022 letter), October 17, 2022, and November 30, 2023. EPA determined that those requests met the requirements of the CAA and the 1982 and 1999 NSPS Delegations concerning the approval of EPA's delegation of authority for the enforcement and implementation of the NSPS in Oklahoma. EPA previously proposed an action on ODEQ's request to update its NSPS delegation (85 FR 31423, May 26, 2020); that proposed action was subsumed and incorporated into our July 7, 2025, re-proposal (90 FR 29826).

For this action, a review of all applicable Statutory and Executive Orders are indicated as follows:

A. Executive Order 12866: Regulatory Planning and Review and Executive Order 13563: Improving Regulation and Regulatory Review

This action is not a significant regulatory action as defined in Executive Order 12866 (58 FR 51735, October 4, 1993) and was therefore not submitted to the Office of Management and Budget (OMB) for review.

B. Executive Order 14192: Unleashing Prosperity Through Deregulation

This action is not an Executive Order 14192 regulatory action because this action is not significant under Executive Order 12866.

C. Paperwork Reduction Act (PRA)

This action does not impose an information collection burden under the PRA (44 U.S.C. 3501 et seq.) because it does not contain any information collection activities.

D. Regulatory Flexibility Act (RFA)

This action is certified to not have a significant economic impact on a substantial number of small entities under the RFA (5 U.S.C. 601 et seq.). This action approves the delegation of Federal rules as requested by the state agency and will therefore have no net regulatory burden for all directly regulated small entities.

E. Unfunded Mandates Reform Act (UMRA)

This action does not contain an unfunded mandate as described in UMRA, 2 U.S.C. 1531-1538, and does not significantly or uniquely affect small governments. This action imposes no enforceable duty on any State, local, or tribal governments or the private sector.

F. Executive Order 13132: Federalism

This action does not have federalism implications as specified in Executive Order 13132 (64 FR 43255, August 10, 1999). It will not have substantial direct effects on the states, on the relationship between the national government and the states, or on the distribution of power and responsibilities among the various levels of government.

G. Executive Order 13175: Consultation and Coordination With Indian Tribal Governments

This update to the delegation of certain NSPS to ODEQ will apply to certain areas of Indian country throughout Oklahoma as discussed in the preamble, and therefore has tribal implications as specified in E.O. 13175 (65 FR 67249, November 9, 2000). However, this action will neither impose substantial direct compliance costs on federally recognized tribal governments, nor preempt Tribal law. This action will not impose substantial direct compliance costs on federally recognized tribal governments because no actions will be required of Tribal governments. This action will also not preempt tribal law as no Oklahoma tribe implements a regulatory program under the CAA and thus does not have applicable or related Tribal laws. Consistent with the EPA Policy on Consultation and Coordination with Indian Tribes (December 7, 2023), the EPA has offered consultation to all 38 Tribal governments whose lands are located within the exterior boundaries of the State of Oklahoma and that may be affected by this action and provided information about this action.

H. Executive Order 13045: Protection of Children From Environmental Health Risks and Safety Risks

The EPA interprets Executive Order 13045 as applying only to regulatory actions considered significant under section 3(f)(1) of Executive Order 12866 and that concern environmental health or safety risks that EPA has reason to believe may disproportionately affect children, per the definition of “covered regulatory action” in section 2-202 of Executive Order 13045. This action is not subject to Executive Order 13045 because it approves a state program.

I. Executive Order 13211: Actions Concerning Regulations That Significantly Affect Energy Supply, Distribution or Use

This action is not subject to Executive Order 13211 (66 FR 28355, May 22, 2001), because it is not a significant regulatory action under Executive Order 12866.

J. National Technology Transfer and Advancement Act (NTTAA)

This rule does not involve technical standards. This action is not subject to requirements of section 12(d) of the National Technology Transfer and Advancement Act of 1995 (15 U.S.C. 272 note) because application of those requirements would be inconsistent with the Clean Air Act.

K. Congressional Review Act (CRA)

This action is subject to the CRA, and the EPA will submit a rule report to each House of the Congress and to the Comptroller General of the United States. This action is not a “major rule” as defined by 5 U.S.C. 804(2).

Under section 307(b)(1) of the CAA, petitions for judicial review of this action must be filed in the United States Court of Appeals for the appropriate circuit by February 17, 2026. Filing a petition for reconsideration by the Administrator of this final rule does not affect the finality of this action for the purposes of judicial review nor does it extend the time within which a petition for judicial review may be filed and shall not postpone the effectiveness of such rule or action. This action may not be challenged later in proceedings to enforce its requirements. (See section 307(b)(2).)

List of Subjects in 40 CFR Part 60

Environmental protection, Air pollution control, Administrative practice and procedure, Hazardous substances, Intergovernmental relations, Reporting and recordkeeping requirements.

Dated: December 11, 2025.
James McDonald,
Director, Air & Radiation Division, Region 6.

For the reasons stated in the preamble, the EPA amends 40 CFR part 60 as follows:

PART 60—STANDARDS OF PERFORMANCE FOR NEW STATIONARY SOURCES

1. The authority citation for part 60 continues to read as follows:

Authority: 42 U.S.C. 7401 et seq.

Subpart A—General Provisions

2. Section 60.4 is amended by revising paragraph (b)(38) and adding paragraph (e)(4) to read as follows:

§ 60.4 Address.

* * * * *

(b) * * *

(38) State of Oklahoma: State of Oklahoma, Department of Environmental Quality, Air Quality Division, P.O. Box 1677, Oklahoma City, OK 73101-1677.

* * * * *

(e) * * *

(4) The Oklahoma Department of Environmental Quality (ODEQ) has been delegated the following 40 CFR part 60 standards promulgated by EPA, as amended in the Federal Register through June 30, 2023. The (X) symbol is used to indicate each subpart that has been delegated.

Table 3 to Paragraph (b)—Delegation Status for Part 60 Standards—State of Oklahoma
Subpart | Source category | ODEQ
A | General Provisions (except §§ 60.4, 60.9, 60.10 and 60.16) | X
Cb | Emissions Guidelines and Compliance Times for Large Municipal Waste Combustors That are Constructed On or Before September 20, 1994 | No
Cc | Emission Guidelines and Compliance Times for Municipal Solid Waste Landfills | No
Cd | Emissions Guidelines and Compliance Times for Sulfuric Acid Production Units | No
Ce | Emission Guidelines and Compliance Times for Hospital/Medical/Infectious Waste Incinerators | No
Cf | Emission Guidelines and Compliance Times for Municipal Solid Waste Landfills | No
D | Fossil Fueled Steam Generators | X
Da | Electric Utility Steam Generating Units | X
Db | Industrial-Commercial-Institutional Steam Generating Units | X
Dc | Small Industrial-Commercial-Institutional Steam Generating Units | X
E | Incinerators | X
Ea | Municipal Waste Combustors for Which Construction is Commenced After December 20, 1989, and On or Before September 20, 1994 | X
Eb | Large Municipal Waste Combustors for Which Construction is Commenced After September 20, 1994 or for Which Modification or Reconstruction is Commenced After June 19, 1996 | X
Ec | Hospital/Medical/Infectious Waste Incinerators | X
F | Portland Cement Plants | X
G | Nitric Acid Plants | X
Ga | Nitric Acid Plants for Which Construction, Reconstruction, or Modification Commenced After October 14, 2011 | X
H | Sulfuric Acid Plants | X
I | Hot Mix Asphalt Facilities | X
J | Petroleum Refineries | X
Ja | Petroleum Refineries for Which Construction, Reconstruction, or Modification Commenced After May 14, 2007 | X
K | Storage Vessels for Petroleum Liquids for Which Construction, Reconstruction, or Modification Commenced After June 11, 1973, and Prior to May 19, 1978 | X
Ka | Storage Vessels for Petroleum Liquids for Which Construction, Reconstruction, or Modification Commenced After May 18, 1978, and Prior to July 23, 1984 | X
Kb | VOC Liquid Storage Vessels (Including Petroleum Liquid Storage Vessels) for Which Construction, Reconstruction, or Modification Commenced After July 23, 1984, and On or Before October 4, 2023 | X
Kc | VOC Liquid Storage Vessels (Including Petroleum Liquid Storage Vessels) for Which Construction, October 4, 2023 | No
L | Secondary Lead Smelters for Which Construction, Reconstruction, or Modification Commenced After June 11, 1973, and On or Before December 1, 2022 | X
La | Secondary Lead Smelters for Which Construction, Reconstruction, or Modification Commenced After December 1, 2022 | No
M | Secondary Brass and Bronze Production Plants | X
N | Primary Emissions from Basic Oxygen Process Furnaces for Which Construction Commenced After June 11, 1973 | X
Na | Secondary Emissions from Basic Oxygen Process Steelmaking Facilities for Which Construction is Commenced After January 20, 1983 | X
O | Sewage Treatment Plants | X
P | Primary Copper Smelters | X
Q | Primary Zinc Smelters | X
R | Primary Lead Smelters | X
S | Primary Aluminum Reduction Plants | X
T | Phosphate Fertilizer Industry: Wet Process Phosphoric Plants | X
U | Phosphate Fertilizer Industry: Superphosphoric Acid Plants | X
V | Phosphate Fertilizer Industry: Diammonium Phosphate Plants | X
W | Phosphate Fertilizer Industry: Triple Superphosphate Plants | X
X | Phosphate Fertilizer Industry: Granular Triple Superphosphate Storage Facilities | X
Y | Coal Preparation and Processing Plants | X
Z | Ferroalloy Production Facilities | X
AA | Steel Plants: Electric Arc Furnaces Constructed After October 21, 1974, and On or Before August 17, 1983 | X
AAa | Steel Plants: Electric Arc Furnaces & Argon-Oxygen Decarburization Vessels Constructed After August 17, 1983, and On or Before May 16, 2022 | X
AAb | Steel Plants: Electric Arc Furnaces & Argon-Oxygen Decarburization Vessels Constructed After May 16, 2022 | No
BB | Kraft Pulp Mills | X
BBa | Kraft Pulp Mill Affected Sources for Which Construction, Reconstruction, or Modification Commenced After May 23, 2013 | X
CC | Glass Manufacturing Plants | X
DD | Grain Elevators | X
EE | Surface Coating of Metal Furniture | X
GG | Stationary Gas Turbines | X
HH | Lime Manufacturing Plants | X
KK | Lead-Acid Battery Manufacturing Plants for Which Construction, Reconstruction, or Modification Commenced After January 14, 1980, and On or Before February 23, 2022 | X
KKa | Lead-Acid Battery Manufacturing Plants for Which Construction, Reconstruction, or Modification Commenced After February 23, 2022 | X
LL | Metallic Mineral Processing Plants | X
MM | Automobile & Light Duty Truck Surface Coating Operations for which Construction, Modification or Reconstruction Commenced After October 5, 1979, and On or Before May 18, 2022 | X
MMa | Automobile & Light Duty Truck Surface Coating Operations for which Construction, Modification or Reconstruction Commenced After May 18, 2022 | X
NN | Phosphate Manufacturing Plants | X
PP | Ammonium Sulfate Manufacture | X
QQ | Graphic Arts Industry: Publication Rotogravure Printing | X
RR | Pressure Sensitive Tape and Label Surface Coating Operations | X
SS | Industrial Surface Coating: Large Appliances | X
TT | Metal Coil Surface Coating | X
UU | Asphalt Processing and Asphalt Roofing Manufacture | X
VV | Equipment Leaks of VOC in the SOCMI Industry for Which Construction, Reconstruction, or Modification Commenced After January 5, 1981, and On or Before November 7, 2006 | X
VVa | Equipment Leaks of VOC in the SOCMI Industry for Which Construction, Reconstruction, or Modification Commenced After November 7, 2006, and On or Before April 25, 2023 | X
VVb | Equipment Leaks of VOC in the SOCMI Industry for Which Construction, Reconstruction, or Modification Commenced After April 25, 2023 | No
WW | Beverage Can Surface Coating Industry | X
XX | Bulk Gasoline Terminals That Commenced Construction, Modification, or Reconstruction After December 17, 1980, and On or Before June 10, 2022 | X
XXa | Bulk Gasoline Terminals That Commenced Construction, Modification, or Reconstruction After June 10, 2022 | No
AAA | New Residential Wood Heaters | No
BBB | Rubber Tire Manufacturing Industry | X
CCC | [Reserved] |
DDD | Volatile Organic Compound (VOC) Emissions from the Polymer Manufacturing Industry | X
EEE | [Reserved] |
FFF | Flexible Vinyl and Urethane Coating and Printing | X
GGG | Equipment Leaks of VOC in Petroleum Refineries for Which Construction, Reconstruction, or Modification Commenced After January 4, 1983, and n or Before November 7, 2006 | X
GGGa | Equipment Leaks of VOC in Petroleum Refineries for Which Construction, Reconstruction, or Modification Commenced After November 7, 2006 | X
HHH | Synthetic Fiber Production | X
III | VOC Emissions from the SOCMI Air Oxidation Unit Processes | X
IIIa | VOC Emissions from the SOCMI Air Oxidation Unit Processes for Which Construction, Reconstruction, or Modification Commenced After April 25, 2023 | No
JJJ | Petroleum Dry Cleaners | X
KKK | VOC Equipment Leaks From Onshore Natural Gas Processing Plants | X
LLL | Onshore Natural Gas Processing: SO2 Emissions | X
MMM | [Reserved] |
NNN | VOC Emissions from SOCMI Distillation Operations | X
NNNa | VOC Emissions from SOCMI Distillation Operations for Which Construction, Reconstruction, or Modification Commenced After April 25, 2023 | No
OOO | Nonmetallic Mineral Processing Plants | X
PPP | Wool Fiberglass Insulation Manufacturing Plants | X
QQQ | VOC Emissions From Petroleum Refinery Wastewater Systems | X
RRR | VOC Emissions from SOCMI Reactor Processes | X
RRRa | VOC Emissions from SOCMI Reactor Processes for Which Construction, Reconstruction, or Modification Commenced After April 25, 2023 | No
SSS | Magnetic Tape Coating Operations | X
TTT | Industrial Surface Coating: Plastic Parts for Business Machines | X
TTTa | Industrial Surface Coating: Surface Coating of Plastic Parts for Business Machines for Which Construction, Reconstruction, or Modification Commenced After June 21, 2022 | X
UUU | Calciners and Dryers in Mineral Industries | X
VVV | Polymeric Coating of Supporting Substrates Facilities | X
WWW | Municipal Solid Waste Landfills | X
XXX | Municipal Solid Waste Landfills that Commenced Construction, Reconstruction, or Modification after July 17, 2014 | X
YYY-ZZZ | [Reserved] |
AAAA | Small Municipal Waste Combustion Units (Construction is Commenced After 8/30/99 or Modification/Reconstruction is Commenced After 6/06/2001) | X
BBBB | Emission Guidelines and Compliance Times for Small Municipal Waste Combustion Units Constructed On or Before August 30, 1999 | No
CCCC | Commercial & Industrial Solid Waste Incineration Units (Construction is Commenced After 11/30/1999 or Modification/Reconstruction is Commenced On or After 6/01/2001) | X
DDDD | Emission Guidelines & Compliance Times for Commercial & Industrial Solid Waste Incineration Units (Commenced Construction On or Before 11/30/1999) | No
EEEE | Other Solid Waste Incineration Units (Constructed after 12/09/2004 or Modification/Reconstruction is commenced On or After 06/16/2004) | X
FFFF | Emission Guidelines and Compliance Times for Other Solid Waste Incineration Units that Commenced Construction On or Before December 9, 2004 | No
GGG-HHH | [Reserved] |
IIII | Stationary Compression Ignition Internal Combustion Engines | X
JJJJ | Stationary Spark Ignition Internal Combustion Engines | X
KKKK | Stationary Combustion Turbines (Construction Commenced After 02/18/2005) | X
LLLL | New Sewage Sludge Incineration Units | X
MMMM | Emission Guidelines and Compliance Times for Existing Sewage Sludge Incineration Units | No
NNNN | [Reserved] |
OOOO | Crude Oil and Natural Gas Production, Transmission and Distribution | X
OOOOa | Crude Oil and Natural Gas Facilities for Which Construction, Modification or Reconstruction Commenced After September 18, 2015 and On or Before December 6, 2022 | X
OOOOb | Crude Oil and Natural Gas Facilities for Which Construction, Modification or Reconstruction Commenced After December 6, 2022 | No
OOOOc | Emissions Guidelines for Greenhouse Gas Emissions from Existing Crude Oil and Natural Gas Facilities | No
PPPP | [Reserved] |
QQQQ | New Residential Hydronic Heaters and Forced-Air Furnaces | No
TTTT | Greenhouse Gas Emissions for Electric Generating Units | X
TTTTa | Greenhouse Gas Emissions for Modified Coal-Fired Steam Electric Generating Units and New Construction and Reconstruction Stationary Combustion Turbine Electric Generating Units | No
UUUUa | [Reserved] |
UUUUb | Greenhouse Gas Emissions for Electric Utility Generating Units | No
Appendix A | Test Methods | X
Appendix B | Performance Specifications | X

[FR Doc. 2025-23275 Filed 12-17-25; 8:45 am]

BILLING CODE 6560-50-P